DEPARTMENT OF TRANSPORTATION

Federal Aviation Administration (FAA)

Notice of Opportunity for Public Comment on Property Release at Gwinnett County Airport, Lawrenceville, GA

AGENCY: Federal Aviation Administration (FAA), DOT.

ACTION: Notice.

SUMMARY: Under the provisions of Title 49, U.S.C. Section 47153(c), notice is being given that the FAA is considering a request from Gwinnett County to release two areas of land located at the Gwinnett County Airport from aeronautical to nonaeronautical use.

DATES: Comments must be received on or before January 2, 2003.

ADDRESSES: Comments on this notice may be mailed or delivered in triplicate to the FAA at the following address: Atlanta Airports District Office, 1701 Columbia Ave, Suite 2-260, Campus Building, College Park, GA 30337-2747.

In addition, one copy of any comments submitted to the FAA must be mailed to Mr. Matthew L. Smith, Airport Manager, of the Gwinnett County Airport at the following address: P.O. Box 1446, Lawrenceville, GA 30046-1446.

FOR FURTHER INFORMATION CONTACT: Lee Kyker, Manager of Airport Programs, Atlanta Airports District Office, 1701 Columbia Ave, Suite 2-260, Campus Building, College Park, GA 30337-2747, (404) 305-7161. The application may be reviewed in person at this same location.

SUPPLEMENTARY INFORMATION: The FAA is reviewing a request by Gwinnett County to release 2.24 acres of Gwinnett County purchased property at the Gwinnett County Airport currently shown on the approved Airport Layout Plan as aeronautical land. Gwinnett County will continue to retain the property for use by the Parks and Recreation Department. The navigation easement will continue to be in effect for the property. The parcels are located along Hosea Road.

Any person may inspect the request in person at the FAA office listed above under FOR FURTHER INFORMATION CONTACT. In addition, any person may, upon request, inspect the request, notice and other documents germane to the request in person at the Gwinnett County Airport Manager's office.

Issued in Atlanta, Georgia, on November 15, 2002.
Scott L. Seritt,
Manager, Atlanta Airports District Office, Southern Region.

[FR Doc. 02-30612 Filed 12-2-02; 8:45 am]

BILLING CODE 4910-13-M